DEPARTMENT OF THE INTERIOR

Bureau of Land Management

Lower Snake River District Resource Advisory Council; Meeting

AGENCY: Lower Snake River District, Bureau of Land Management, Interior.

ACTION: Notice of public meeting.

SUMMARY: The Lower Snake River District Resource Advisory Council will meet in Boise. Agenda topics include subgroup reports on the OHV initiative, sage grouse and river recreation, as well as an update on the two new Resource Management Plans and other land management issues.

DATES: December 6, 2001. The meeting will begin at 11:30 a.m. Public comment periods will be held after each topic. The meeting is expected to adjourn at 4:30 p.m.

ADDRESSES: The meeting will be held at the Lower Snake River District Office, located at 3948 Development Avenue, Boise, Idaho.

FOR FURTHER INFORMATION CONTACT: Mary Jones, Lower Snake River District Office (208-384-3305).

Dated: September 21, 2001.
Katherine Kitchell,
District Manager.

[FR Doc. 01-27913 Filed 11-6-01; 8:45 am]

BILLING CODE 1020-GG-P